DEPARTMENT OF HEALTH AND HUMAN SERVICES

Agency for Healthcare Research and quality

Correction to a Notice of Meetings

With this Notice, AHRQ is publishing a correction to the following “Study Section” meetings published in the Federal Register on May 9, 2005, Volume 70, Number 88, Pages 24426-24427, see also http://a257.g.akamaitech.net/7/257/2422/01jan20051800/edock.access.gop.gov/2005/05-9182.htm, reflect correct dates:

○ Name of Subcommittee: Health Systems Research

Date: June 17, 2005.

○ Name of Subcommittee: Health Care Quality and Effectiveness Research

Date: June 23, 2005.

Dated: May 12, 2005.
Carolyn M. Clancy,
Director.

[FR Doc. 05-10474 Filed 5-25-05; 8:45 am]

BILLING CODE 4160-90-M